DEPARTMENT OF VETERANS AFFAIRS

Loan Guaranty Assistance to Eligible Individuals in Acquiring Specially Adapted Housing Cost-of-Construction Index

AGENCY: Department of Veterans Affairs.

ACTION: Notice.

SUMMARY: The Department of Veterans Affairs (VA) announces that the aggregate amounts of assistance available under the Specially Adapted Housing (SAH) grant program will increase by 2.44 percent for fiscal year (FY) 2021.

DATES: The increases in aggregate amounts are effective October 1, 2020.

FOR FURTHER INFORMATION CONTACT: Terry Rouch, Assistant Director for Loan Policy and Valuation, Loan Guaranty Service, Veterans Benefits Administration, Department of Veterans Affairs, 810 Vermont Avenue NW, Washington, DC 20420, 202-632-8862. (This is not a toll-free number.)

SUPPLEMENTARY INFORMATION: In accordance with 38 U.S.C. 2102(e); 2102A(b)(2); and 2102B(b)(2), and 38 CFR 36.4411, the Secretary of Veterans Affairs announces the fiscal year (FY) 2021 aggregate amounts of assistance available to Veterans and Service members eligible for SAH program grants.

Section 2102(e)(2) authorizes the Secretary of Veterans Affairs to increase the aggregate amounts of SAH assistance annually based on a residential home cost-of-construction index. In accordance with 38 CFR 36.4411(a), the Secretary uses the Turner Building Cost Index for this purpose.

In the most recent quarter for which the Turner Building Cost Index is available (the second quarter of 2020), the index showed an increase of 2.44% over the index value listed for the second quarter of 2019 (available at http://www.turnerconstruction.com/cost-index and last visited August 7, 2020). Therefore, pursuant to 38 CFR 36.4411(a), the aggregate amounts of assistance for SAH grants made pursuant to 38 U.S.C. 2101(a) and 2101(b) will increase by 2.44% for FY 2021.

Sections 2102A(b)(2) and 2102B(b)(2) require the Secretary of Veterans Affairs to apply the same percentage calculated pursuant to section 2102(e) to section 2102A and 2102B-authorized grants. As such, the maximum amount of assistance available under these grants will also increase by 2.44% for FY 2021.

The increases are effective as of October 1, 2020, in accordance with 38 U.S.C. 2102(e), 2102A(b)(2), and 2102B(b)(2).

Specially Adapted Housing: Aggregate Amounts of Assistance Available During FY 2021

This announcement states the new maximum grant amounts for the following three types of SAH grants: Section 2101(a) and temporary residence adaptation (TRA) grants; section 2101(b) grants and TRA grants; and section 2102B grants.

Section 2101(a) Grants and TRA Grants

Effective October 1, 2020, the aggregate amount of assistance available for SAH grants made pursuant to 38 U.S.C. 2101(a) will be $100,896 during FY 2021. The maximum TRA grant made to an individual who satisfies the eligibility criteria under 38 U.S.C. 2101(a) and 2102A will be $44,295 during FY 2020.

Section 2101(b) Grants and TRA Grants

Effective as of October 1, 2020, the aggregate amount of assistance available for SAH grants made pursuant to 38 U.S.C. 2101(b) will be $20,215 during FY 2021. The maximum TRA grant made to an individual who satisfies the eligibility criteria under 38 U.S.C. 2101(b) and 2102A will be $7,909 during FY 2021.

Section 2102B Grants

Effective as of October 1, 2020, the amount of assistance available for SAH grants made pursuant to 38 U.S.C. 2102B will be $100,896 during FY 2021; however, the Secretary of Veterans Affairs may waive this limitation for a Veteran if the Secretary determines a waiver is necessary for the rehabilitation program of the Veteran.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on October 15, 2020 for publication.

Luvenia Potts,
Regulation Development Coordinator, Office of Regulation Policy & Management, Office of the Secretary, Department of Veterans Affairs.

[FR Doc. 2020-23381 Filed 10-21-20; 8:45 am]

BILLING CODE 8320-01-P